FEDERAL MINE SAFETY AND HEALTH REVIEW COMMISSION

Sunshine Act Meeting

June 14, 2000

TIME AND DATE: 10 a.m., Wednesday, June 21, 2000.

PLACE: Room 6005, 6th Floor, 1730 K Street, N.W., Washington, D.C.

STATUS: Closed [Pursuant to 5 U.S.C. 552b(c)(10)].

MATTERS TO BE CONSIDERED: It was determined by a unanimous vote of the Commission that the Commission consider and act upon the following in closed session:

1. Disciplinary Proceeding, Docket No. D 2000-1.

TIME AND DATE: The Commission meeting will commence following upon the conclusion of the Commission meeting in Disciplinary Proceeding, Docket No. D 2000-1, which commences at 10:00 a.m. on Wednesday, June 21, 2000.

PLACE: Room 6005, 6th Floor, 1730 K Street, N.W., Washington, D.C.

STATUS: Closed [Pursuant to 5 U.S.C. 552b(c)(10)].

MATTERS TO BE CONSIDERED: It was determined by a unanimous vote of the Commission that the Commission consider and act upon the following in closed session:

1. Disciplinary Proceeding, Docket No. D 2000-2.

TIME AND DATE: 10 a.m., Thursday, July 6, 2000.

PLACE: Room 6005, 6th Floor, 1730 K Street, N.W., Washington, D.C.

STATUS: Open.

MATTERS TO BE CONSIDERED: The Commission will consider and act upon the following:

1. Dykhoff v. U.S. Borax, Inc., Docket No. WEST 99-26-DM (Issues include whether the judge erred in concluding that a miner did not engage in a protected work refusal, and that, accordingly, the operator did not discriminate against the miner when issuing a corrective notice to him for his absences).

Any person attending a meeting who requires special accessibility features and/or auxiliary aids, such as sign language interpreters, must inform the Commission in advance of those needs. Subject to 29 CFR § 2706.150(a)(3) and § 2706.160(d).

CONTACT PERSON FOR MORE INFO: Jean Ellen (202) 653-5629/(202) 708-9300 for TDD Relay/1-800-877-8339 for toll free.

Sandra G. Farrow,
Acting Chief Docket Clerk.

[FR Doc. 00-15587 Filed 6-16-00; 10:37 am]

BILLING CODE 6735-01-M